DEPARTMENT OF ENERGY

Notice of Request for Information (RFI) on Opportunities To Reduce Greenhouse Gas Emissions and Other Air Pollutants Associated With U.S. Liquefied Natural Gas (LNG) Exports

AGENCY: Office of Fossil Energy and Carbon Management, Department of Energy.

ACTION: Request for information.

SUMMARY: The U.S. Department of Energy (DOE) invites public comment on its Request for Information (RFI) number DE-FOA-0003052 regarding the Office of Fossil Energy and Carbon Management's (FECM) Methane Mitigation Technologies and Point Source Carbon Capture research and development activities and regulation of natural gas imports and exports, under the Natural Gas Act of 1938, as amended. FECM is specifically interested in information on strategies and technologies that natural gas and liquefied natural gas (LNG) companies are deploying or could deploy to reduce greenhouse gas emissions and other air pollutants. This includes emissions of carbon dioxide (CO2), methane, criteria pollutants, and hazardous air pollutants that occur during production through transportation of natural gas delivered to a liquefaction facility; at liquefaction facilities; and during the loading, transport, and delivery of LNG to a regasification facility.

DATES: Responses to the RFI must be received by no later than 5 p.m., Eastern time, June 26, 2023.

ADDRESSES: Interested parties are to submit comments electronically to ReduceGHGE_LNG_RFI@NETL.DOE.GOV and include “Opportunities to Reduce Greenhouse Gas Emissions and Other Air Pollutants Associated with U.S. LNG Exports” in the subject line of the email. Responses must be provided as attachments to an email. Only electronic responses will be accepted. The RFI document is located at https://www.fedconnect.net/fedconnect?doc=DE-FOA-0003052&agency=DOE.

FOR FURTHER INFORMATION CONTACT: Questions may be addressed to Jared Ciferno, Program Manager, Methane Mitigation Technologies Division, DOE, ReduceGHGE_LNG_RFI@NETL.doe.gov or 240-220-1312. Further instruction can be found in the RFI document posted at https://www.fedconnect.net/fedconnect?doc=DE-FOA-0003052&agency=DOE.

SUPPLEMENTARY INFORMATION: The purpose of this RFI is to solicit feedback from industry members, investors, project developers, nongovernmental organizations, academia, research laboratories, government agencies, and other stakeholders on technologies and strategies LNG companies are deploying or could deploy to reduce greenhouse gas emissions and other air pollutants. FECM is particularly interested in data and information related to emissions of carbon dioxide (CO2), methane, criteria pollutants, and hazardous air pollutants that occur during production through transportation of natural gas delivered to a liquefaction facility; at liquefaction facilities; and during the loading, transport, and delivery of LNG to a regasification facility. Feedback is requested on the following categories outlined in the RFI: (1) Environmental Profile of Upstream Supplies, (2) Strategies to Measure and Reduce Emissions at Liquefaction Facilities, (3) Strategies to Measure and Reduce Emissions during Loading, Transport, and Delivery, and (4) Additional Information. This RFI could help inform DOE's research and development activities within the Office of Research and Development's Methane Mitigation Technologies Division and the Office of Carbon Management Technologies' Point Source Carbon Capture Division. In addition, this data and information could help inform the Office of Regulation, Analysis, and Engagement's capabilities to assess natural gas import and/or export applications under the Natural Gas Act of 1938, as amended.

Confidential Business Information

Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

Signing Authority

This document of the Department of Energy was signed on April 21, 2023, by Brad Crabtree, Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 21, 2023.
Treena V. Garrett,
Federal Register Liaison Officer, U.S. Department of Energy.

[FR Doc. 2023-08803 Filed 4-25-23; 8:45 am]

BILLING CODE 6450-01-P